FEDERAL RETIREMENT THRIFT INVESTMENT BOARD

Sunshine Act; Notice of Meeting

TIME AND DATE: 9 a.m. (Eastern Time), February 28, 2011.

PLACE: 4th Floor Conference Room, 1250 H Street, NW., Washington, DC 20005.

STATUS: Parts will be open to the public and parts closed to the public.

MATTERS TO BE CONSIDERED:

Parts Open to the Public

1. Approval of the minutes of the January 25, 2011 Board member meeting.

2. Thrift Savings Plan activity report by the Executive Director.

a. Monthly Participant Activity Report.

b. Quarterly Investment Policy Review.

c. Legislative Report.

Parts Closed to the Public

1. Confidential Financial Information.

CONTACT PERSON FOR MORE INFORMATION: Thomas J. Trabucco, Director, Office of External Affairs, (202) 942-1640.

Dated: February 18, 2011.
Megan G. Grumbine,
Assistant General Counsel, Federal Retirement Thrift Investment Board.

[FR Doc. 2011-4131 Filed 2-18-11; 4:15 pm]

BILLING CODE 6760-01-P